DEPARTMENT OF COMMERCE

Foreign-Trade Zones Board

[B-76-2017]

Foreign-Trade Zone (FTZ) 82—Mobile, Alabama; Notification of Proposed Production Activity, Aker Solutions, Inc., (Undersea Umbilicals), Mobile, Alabama

The City of Mobile, grantee of FTZ 82, submitted a notification of proposed production activity to the FTZ Board on behalf of Aker Solutions, Inc. (Aker), located in Mobile, Alabama. The notification conforming to the requirements of the regulations of the FTZ Board (15 CFR 400.22) was received on December 5, 2017.

Aker already has authority for the production of undersea umbilicals within Site 7 of FTZ 82. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt Aker from customs duty payments on the foreign-status materials/components used in export production. On its domestic sales, for the foreign-status materials/components noted below and in the existing scope of authority, Aker would be able to choose the duty rates during customs entry procedures that apply to: Steel tube flying leads; hydraulic flying leads; cobra head terminations; umbilical termination assemblies; subsea distribution assemblies; mud mat assemblies; and, integrated controls jumpers/hydraulic bridge jumpers (duty rate ranges from duty-free to 3.7%). Aker would be able to avoid duty on foreign-status components which become scrap/waste. Customs duties also could possibly be deferred or reduced on foreign-status production equipment.

The materials/components sourced from abroad include: Super duplex steel tubes; electrical cables exceeding 1000V; electrical cables exceeding 600V; fiber optic cables; rotary disc valves; valve bodies, bonnets, gates, seats, stems, non-elastomeric seals, elastomeric seals and fastener hardware for rotary disc valves; clamp connector assemblies; inboard hub forgings of low alloy steel; inboard hub flanges of low alloy steel; outboard hub forgings of low alloy steel; hub retainer flanges of low alloy steel; pressure cap forgings of low alloy steel; rotary gate valves; hydraulic gate valves; vertical connection system guide cone weldments; left/right retainer ring elements for clamp connector assemblies; and, top ring elements for clamp connector assemblies (duty rate ranges from duty-free to 5.3%).

Public comment is invited from interested parties. Submissions shall be addressed to the Board's Executive Secretary at the address below. The closing period for their receipt is January 22, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: December 6, 2017.
Andrew McGilvray,
Executive Secretary.

[FR Doc. 2017-26848 Filed 12-12-17; 8:45 am]

BILLING CODE 3510-DS-P